DEPARTMENT OF ENERGY

Federal Energy Regulatory Commission

[Project No. 1894-211]

South Carolina Electric & Gas Company; Notice of Application Accepted for Filing, Soliciting Motions To Intervene and Protests, Ready for Environmental Analysis, and Soliciting Comments, Recommendations, Terms and Conditions, and Preliminary Fishway Prescriptions

Take notice that the following hydroelectric application has been filed with the Commission and is available for public inspection.

a. Type of Application: New Major License.

b. Project No.: P-1894-211.

c. Date filed: June 28, 2018.

d. Applicant: South Carolina Electric & Gas Company (SCE&G).

e. Name of Project: Parr Hydroelectric Project.

f. Location: The existing project is located on the Broad River, in Newberry and Fairfield Counties, South Carolina. The project occupies 162.61 acres of federal land administered by the Forest Service.

g. Filed Pursuant to: Federal Power Act 16 U.S.C. 791 (a)—825(r).

h. Applicant Contact: Mr. William Argentieri, P.E., Manager of Civil Engineering, South Carolina Electric & Gas Company, 220 Operation Way, Mail Code A221, Cayce, SC 29033-3701; (803) 217-9162; or email at bargentieri@scana.com.

i. FERC Contact: Monte TerHaar at (202) 502-6035; or at monte.terhaar@ferc.gov.

j. Deadline for filing motions to intervene and protests, comments, recommendations, terms and conditions, and preliminary prescriptions: 60 days from the issuance date of this notice; reply comments are due 105 days from the issuance date of this notice.

The Commission strongly encourages electronic filing. Please file motions to intervene, protests, comments, recommendations, terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-1894-211.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The project consists of two developments; the 14.88-Megawatt (MW) Parr Shoals Development and the 511.2-MW Fairfield Pumped Storage Development.

The Parr Shoals Development consists of: (1) The 15-mile-long, 4,250-acre Parr Reservoir, at full pond elevation 265.3 feet North American Vertical Datum of 1988 (NAVD 88); (2) the 2,690-foot-long Parr Shoals Dam, which includes a non-overflow section, a spillway section with 10 spillway gates, and a powerhouse intake section; (3) a powerhouse integral with the dam, with six generating units; and (4) transmission facilities that consist of three 950-foot-long, 13.8-kilovolt lines that extend from the hydro station to the non-project Parr sub-station.

The Fairfield Pumped Storage Development consists of: (1) The Parr Reservoir which serves as the lower pool; (2) the 6,800-acre Monticello Reservoir (upper reservoir), at normal maximum elevation 424.3 feet NAVD 88, which is formed by four earthen dams (A, B, C, and D); (3) a 265-foot-long gated intake channel, located between dams B and C; (4) four 800-foot-long surface penstocks, bifurcating into eight penstocks; (5) an underground generating station, which houses eight pumped-turbine units; and (6) transmission facilities that consist of three 7,000-foot-long lines, extending from the Fairfield switch station to the non-project V.C. Summer switchyard.

The Fairfield Pumped Storage Development is operated to generate during peak demand periods. Generation usually occurs during the day, with the upper reservoir replenished by pumping water at night (non-peak period). The Parr Shoals Development serves as the lower reservoir for the pumped storage project. The Parr Shoals Development operates to maintain a normal maximum elevation of 265.3 feet in Parr Reservoir and release minimum flows for the protection of aquatic resources.

m. A copy of the application is available for review at the Commission in the Public Reference Room, or may be viewed on the Commission's website at http://www.ferc.gov, using the “eLibrary” link. Enter the docket number, excluding the last three digits in the docket number field, to access the document. For assistance, contact FERC Online Support. A copy is also available for inspection and reproduction at the address in item h above.

You may register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on, or before, the specified comment date for the particular application.

All filings must: (1) Bear in all capital letters the title PROTEST, MOTION TO INTERVENE, COMMENTS, REPLY COMMENTS, RECOMMENDATIONS, TERMS AND CONDITIONS, or PRELIMINARY FISHWAY PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions, or preliminary prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. A license applicant must file no later than 60 days following the date of issuance of this notice: (1) A copy of the water quality certification; (2) a copy of the request for certification, including proof of the date on which the certifying agency received the request; or (3) evidence of waiver of water quality certification.

p. Procedural schedule: The application will be processed according to the following revised Hydro Licensing Schedule. Further revisions to the schedule will be made as appropriate.

Milestone | Target date
Filing comments, recommendations, terms and conditions, and preliminary fishway prescriptions | September 2019.
Commission issues EA | February 2020.
Comments on EA due | March 2020.

q. Final amendments to the application must be filed with the Commission no later than 30 days from the issuance date of this notice.

Dated: July 31, 2019.
Kimberly D. Bose,
Secretary.

[FR Doc. 2019-16995 Filed 8-7-19; 8:45 am]

BILLING CODE 6717-01-P